ENVIRONMENTAL PROTECTION AGENCY

[EPA-HQ-ORD-2020-0682; FRL-9518-01-ORD]

Request for Nomination of Experts for the Biofuels and the Environment: Third Triennial Report to Congress Peer Review Panel

AGENCY: Environmental Protection Agency (EPA).

ACTION: Notice; nomination of experts for peer review panel.

SUMMARY: The U.S. Environmental Protection Agency (EPA) is requesting nominations for an external expert panel to peer review EPA's Biofuels and the Environment: Third Triennial Report to Congress (RtC3). The peer review will be conducted under the framework of EPA's Scientific Integrity Policy (https://www.epa.gov/sites/default/files/2014-02/documents/scientific_integrity_policy_2012.pdf) and follow procedures established in EPA's Peer Review Handbook 4th Edition, 2015 (EPA/100/B-15/001). EPA invites the public to nominate scientific experts to be considered as peer reviewers for this contractor-managed peer review. Nominations of peer review candidates will be accepted by EPA's contractor, Eastern Research Group, Inc. (ERG). Relevant expertise includes economics, engineering, agronomics, land use change, remote sensing, air quality, biogeochemistry, water quality, hydrology, conservation biology, limnology, and ecology. EPA has instructed ERG to formulate a single pool of eighteen (18) candidate external reviewers to provide independent external peer review. After consideration of peer reviewer nominations submitted to ERG in response to this Federal Register notice (FRN) and after consideration of public comments on the List of Candidates (to be announced in a future FRN), ERG will select from this pool the final list of up to nine (9) peer reviewers in a manner consistent with EPA's Peer Review Handbook 4th Edition, 2015 (EPA/100/B-15/001), ensuring their combined expertise best spans the above disciplines.

DATES: Nominations should be submitted by March 3, 2022.

ADDRESSES: Any interested person or organization may nominate scientific experts to be considered as peer reviewers. Self-nominations will also be accepted. Nominations should be submitted to ERG no later than March 3, 2022 by sending an email to: peerreview@erg.com (subject line: RtC3 Peer Review). Nominations should include all nominee information described in section II of the SUPPLEMENTARY INFORMATION section of this document.

FOR FURTHER INFORMATION CONTACT: Questions concerning nominations of expert peer reviewers should be directed to EPA's contractor, ERG, by email to peerreview@erg.com (subject line: RtC3 Peer Review). For information on the period of submission, contact the ORD Docket at the EPA Headquarters Docket Center; phone: 202-566-1752; fax: 202-566-9744; or email: ord.docket@epa.gov. For technical information, contact Christopher Clark; phone: 202-564-4183; or email: Clark.Christopher@epa.gov.

SUPPLEMENTARY INFORMATION:

I. Information About the Document

In 2007, Congress enacted the Energy Independence and Security Act (EISA) with the stated goals of “mov[ing] the United States toward greater energy independence and security [and] to increase the production of clean renewable fuels.” In accordance with these goals, EISA revised the Renewable Fuel Standard (RFS) Program, which was created under the 2005 Energy Policy Act and is administered by EPA, to increase the volume of renewable fuel required to be blended into transportation fuel to 36 billion gallons per year by 2022. Section 204 of EISA directs EPA, in consultation with the U.S. Departments of Agriculture and Energy, to assess and report triennially to Congress on the environmental and resource conservation impacts of the RFS Program.

The first report to Congress (RtC1) was completed in 2011 and provided an assessment of the environmental and resource conservation impacts associated with increased biofuel production and use (EPA/600/R-10/183F). The overarching conclusions of this first report were: (1) The environmental impacts of increased biofuel production and use were likely negative but limited in impact; (2) there was a potential for both positive and negative impacts in the future; and (3) EISA goals for biofuels production could be achieved with minimal environmental impacts if best practices were used and if technologies advanced to facilitate the use of second-generation biofuel feedstocks (corn stover, perennial grasses, woody biomass, algae, and waste).

The second report to Congress (RtC2) was completed in 2018 and reaffirmed the overarching conclusions of the RtC1 (EPA/600/R-18/195). The RtC2 noted that the biofuel production and use conditions that led to the conclusions of the RtC1 had not materially changed, and that the production of biofuels from cellulosic feedstocks anticipated by both the EISA and the RtC1 had not materialized. Noting observed increases in acreage for corn and soybean production in the period prior to and following implementation of the RFS2 Program, the RtC2 concluded that the environmental and resource conservation impacts associated with land use change were likely due, at least in part, to the RFS and associated production of biofuel feedstocks but that further research was needed.

This RtC3 builds on the previous two reports and provides an update on the impacts to date of the RFS Program on the environment. This report assesses air, water, and soil quality; ecosystem health and biodiversity; and other effects. This third report also includes new analyses not previously included in the first and second reports.

II. How To Submit Nominations for Peer Reviewers

Expertise sought: EPA is seeking candidates who are nationally and/or internationally recognized scientific experts to serve as external peer reviewers for the draft report. Nominees should possess a strong background and demonstrated expertise in one or more of the following areas: Economics, engineering, agronomics, land use change, remote sensing, air quality, biogeochemistry, water quality, hydrology, conservation biology, limnology, and ecology. Economists should have expertise in partial equilibrium modeling (PE), computable general equilibrium modeling (CGE), and/or econometric studies. All candidates should have scientific credentials equivalent to a Ph.D., broad expertise in biofuels, and should be familiar with the Renewable Fuel Standard (RFS) Program.

Selection criteria: From the pool of nominees, EPA's contractor, ERG, will select nine peer reviewers, in a manner consistent with EPA's Peer Review Handbook 4th Edition, 2015 (EPA/100/B-15/001), based on the following factors: (1) Demonstrated expertise in the areas listed above through relevant peer-reviewed publications; (2) professional accomplishments and recognition by professional societies; (3) demonstrated ability to work constructively and effectively in a committee setting; (4) absence of conflicts of interest; (5) no appearance of a lack of impartiality; (6) willingness to commit adequate time for a thorough review of the draft report, including preparation of individual written comments that will be made publicly available; and (7) availability to participate virtually in a public two-day or three-day peer review meeting and to provide subsequent revised individual comments. Registration information, meeting dates, and other logistical information will be provided in a subsequent FRN at least 30 days prior to the external peer review meeting.

Required nominee information: To receive full consideration, the following information should be provided for each nominee in the submission to ERG at peerreview@erg.com (subject line: RtC3 Peer Review): (1) Contact information for the person making the nomination; (2) contact information for the nominee; (3) the disciplinary and specific areas of expertise of the nominee; (4) the nominee's curriculum vitae; (5) a biographical sketch of the nominee indicating current position, educational background, past and current research activities, recent service on other advisory committees, peer review panels, editorial boards or professional organizations, sources of recent grant and/or contract support, and (6) any other comments on the relevance of the nominee's expertise to this peer review topic. Compensation for non-federal peer reviewers will be provided by ERG.

Selection process: ERG will notify nominees of selection or non-selection. ERG will also conduct an independent search for candidates to assemble a balanced group representing the expertise needed to fully evaluate EPA's Third Triennial Biofuels and the Environment Report to Congress (RtC3). ERG will consider and screen all nominees against the criteria previously described. Following the screening process, ERG will narrow the list of potential reviewers to eighteen candidates. Prior to selecting the final peer reviewers, an FRN will be published (exact date to be determined) to solicit comments on the pool of eighteen candidates. In that notice, the public will be requested to provide relevant information or documentation on the candidate pool within 15 days of the announcement of the interim list of candidates. After considering the public comments on the candidate pool, ERG will select nine peer reviewers, carefully weighing a number of factors including the candidates' areas of expertise and professional qualifications.

Timothy Watkins,
Acting Director, Center for Public Health and Environmental Assessment.

[FR Doc. 2022-02047 Filed 1-31-22; 8:45 am]

BILLING CODE 6560-50-P